DEPARTMENT OF AGRICULTURE

Animal and Plant Health Inspection Service

[Docket No. 01-108-2]

Public Meeting; Veterinary Biologics

AGENCY: Animal and Plant Health Inspection Service, USDA.

ACTION: Notice of public meeting.

SUMMARY: This is the second notice to producers and users of veterinary biological products and other interested individuals that we are holding our 11th annual public meeting to discuss regulatory and policy issues related to the manufacture, distribution, and use of veterinary biological products. This notice provides information on the agenda as well as the dates, times, and place of the meeting.

DATES: The public meeting will be held Tuesday, April 2, through Thursday April 4, 2002, from 8 a.m. to approximately 5 p.m. on Tuesday and Wednesday, and from 8 a.m. to approximately noon on Thursday.

ADDRESSES: The public meeting will be held in the Scheman Building at the Iowa State Center, Iowa State University, Ames, IA.

FOR FURTHER INFORMATION CONTACT: For further information concerning registration and agenda topics, contact Ms. Kay Wessman, Center for Veterinary Biologics, Veterinary Services, APHIS, 510 South 17th Street, Suite 104, Ames, IA 50010-8197; phone (515) 232-5785 extension 127; fax (515) 232-7120; or e-mail Kay.Wessman@aphis.usda.gov.

SUPPLEMENTARY INFORMATION: In a notice published in the Federal Register on November 30, 2001 (66 FR 59773-59774, Docket No. 01-108-1), we announced that we will be holding our 11th annual veterinary biologics public meeting and requested that interested persons submit suggestions for agenda topics. Based on the responses and on other considerations, the agenda for the 11th public meeting will include, but is not limited to, the following:

• Veterinary biologics perspectives relating to emergency animal health management, both global and domestic;

• Safeguarding animal health;

• Importation activities;

• Transmissible spongiform encephalopathies;

• Biosecurity;

• The U.S. Department of Agriculture's response to animal health issues;

• International harmonization; and

• Animal care.

In addition, we will provide updates on regulations, aquaculture, reticuloendotheliosis virus, in vitro potency testing, and compliance with the Government Paperwork Elimination Act (including electronic submissions/filing, the Ames Information Management System, summary information format for biotechnology products, and processing labels and outlines of production). During the “roundtable discussion” portion of the meeting, participants will have the opportunity to present their views on matters concerning the Animal and Plant Health Inspection Service's veterinary biologics program.

Registration forms, lodging information, and copies of the agenda for the 11th public meeting may be obtained from the person listed under FOR FURTHER INFORMATION CONTACT. This information is also available on the Internet at http://www.aphis.usda.gov/vs/cvb.

The registration deadline is March 19, 2002. A block of hotel rooms has been set aside for this meeting until March 19. Early reservation of rooms is strongly encouraged.

Done in Washington, DC, this 22nd day of February, 2002.
W. Ron DeHaven,
Acting Administrator, Animal and Plant Health Inspection Service.

[FR Doc. 02-4802 Filed 2-27-02; 8:45 am]

BILLING CODE 3410-34-U